DEPARTMENT OF EDUCATION

[CFDA No. 84.120A]

Office of Postsecondary Education; Minority Science and Engineering Improvement Program; Notice Inviting Applications for New Awards for Fiscal Year (FY) 2001

Purpose of Program: The Minority Science and Engineering Improvement Program (MSEIP) is designed to effect long-range improvement in science and engineering education at predominantly minority institutions and to increase the flow of underrepresented ethnic minorities, particularly minority women, into scientific careers.

Eligibility for Grants: Under Section 361 of Title III of the Higher Education Act (HEA), as amended, the following entities are eligible to receive a grant under the MSEIP:

(1) Public and private nonprofit institutions of higher education that:

(A) Award baccalaureate degrees; and

(B) Are minority institutions;

(2) Public or private nonprofit institutions of higher education that:

(A) Award associate degrees; and

(B) Are minority institutions that:

(i) Have a curriculum that includes science or engineering subjects; and

(ii) Enter into a partnership with public or private nonprofit institutions of higher education that award baccalaureate degrees in science and engineering;

(3) Nonprofit science-oriented organizations, professional scientific societies, and institutions of higher education that award baccalaureate degrees, that:

(A) Provide a needed service to a group of minority institutions; or

(B) Provide in-service training for project directors, scientists, and engineers from minority institutions;

(4) Consortia of organizations that provide needed services to one or more minority institutions, the membership of which may include:

(A) Institutions of higher education that have a curriculum in science and engineering;

(B) Institutions of higher education that have a graduate or professional program in science or engineering;

(C) Research laboratories of, or under contract with, the Department of Energy;

(D) Private organizations that have science or engineering facilities; or

(E) Quasi-governmental entities that have a significant scientific or engineering mission.

Eligible Applicants: (a) For institutional, design, and special projects described respectively in 34 CFR 637.14 (a), (b), and (c): public and nonprofit private minority institutions as defined in section 361 (1) and (2) of the HEA.

(b) For special projects described in 34 CFR 637.14 (b) and (c): nonprofit organizations, institutions, and consortia as defined in section 361(3) and (4) of the HEA.

(c) For cooperative projects described in 34 CFR 637.15: groups of nonprofit accredited colleges and universities whose primary fiscal agent is an eligible minority institution as defined in 34 CFR 637.4(b).

Notes: 1. A minority institution is defined in 34 CFR 637.4(b) as an accredited college or university whose enrollment of a single minority group or combination of minority groups, as defined in 34 CFR 637.4(b), exceeds 50 percent of the total enrollment.

2. Section 365(4) of the HEA now defines the term “science” to include “behavior science.”

Applications Available: February 2, 2001.

Deadline for Transmittal of Applications: March 19, 2001.

Deadline for Intergovernmental Review: May 18, 2001.

Estimated Available Funds: $8,500,000.

Estimated Range of Awards: $15,000-$500,000.

Estimated Average Size of Awards: The amounts referenced are advisory and represent the Department's best estimate at this time. The average size of an award is the estimate for a single-year project or for the first budget period of a multi-year project.

Institutional

Estimated Range of Awards: $100,000-$200,000.

Estimated Average Size of Awards: $120,000.

Estimated Number of Awards: 23.

Design

Estimated Range of Awards: $15,000-$20,000.

Estimated Average Size of Awards: $19,000.

Estimated Number of Awards: 3.

Special

Estimated Range of Awards: $20,000-$150,000.

Estimated Average Size of Awards: $75,000.

Estimated Number of Awards: 12.

Cooperative

Estimated Range of Awards: $100,00-$500,000.

Estimated Average Size of Awards: $280,000.

Estimated Number of Awards: 3.

Estimated Number of Awards: 41.

Note: The Department is not bound by any estimates in this notice.

Project Period: Up to 36 months.

Applicable Regulations: (a) The Education Department General Administrative Regulations (EDGAR) in 34 CFR parts 74, 75, 77, 79, 83, 86, 97, 98, and 99; and (b) The regulations for this program in 34 CFR part 637.

Note: The regulations in 34 CFR part 86 apply to institutions of higher education only.

For Applications and Further Information Contact: Mr. Kenneth Waters or Ms. Deborah Newkirk, Institutional Development and Undergraduate Education Service, U.S. Department of Education, 1990 K Street, NW, 6th Floor, Washington, DC 20006-8517. Telephone: (202) 502-7591 or via Internet: deborah_newkirk@ed.gov.

The government encourages applicants to FAX requests for applications to (202) 502-7861.

If you use a telecommunications device for the deaf (TDD), you may call the Federal Information Relay Service (FIRS) at 1-800-877-8339.

Individuals with disabilities may obtain this document in an alternative format (e.g., Braille, large print, audiotape, or computer diskette) on request to the program contact persons listed under For Applications and Further Information Contact.

Individuals with disabilities may obtain a copy of the application in an alternative format by contacting those persons. However, the Department is not able to reproduce in an alternative format the standard forms included in the application package.

Electronic Access to This Document

You may view this document, as well as all other Department of Education documents published in the Federal Register, in text or Adobe Portable Document Format (PDF) on the Internet at either of the following sites: http://ocfo.ed.gov/fedreg.htm; http://www.ed.gov/news.html.

To use PDF you must have Adobe Acrobat Reader, which is available free at either of the previous sites. If you have questions about using PDF, call the U.S. Government Printing Office (GPO), toll free, at 1-888-293-6498; or in the Washington, DC area at (202) 512-1530.

Note: The official version of this document is the document published in the Federal Register. Free Internet access to the official edition of the Federal Register and the Code of Federal Regulations is available on GPO Access at: http://www.access.gpo.gov/nara/index.html

Program Authority: 20 U.S.C. 1067-1067k.

Dated: December 27, 2000.
A. Lee Fritschler,
Assistant Secretary, Office of Postsecondary Education.

[FR Doc. 01-129 Filed 1-2-01; 8:45 am]

BILLING CODE 4000-01-P